NUCLEAR REGULATORY COMMISSION

10 CFR Part 50

[Docket No. PRM-50-72]

Union of Concerned Scientists; Denial of Petition for Rulemaking

AGENCY: Nuclear Regulatory Commission.

ACTION: Denial of petition for rulemaking.

SUMMARY: The Nuclear Regulatory Commission (NRC) is denying a petition for rulemaking submitted by the Union of Concerned Scientists (PRM-50-72). The petitioner requested that the NRC revise its regulations to require nuclear power plant licensees to submit the performance indicator (PI) information needed for the NRC's Reactor Oversight Process (ROP). Currently, licensees are submitting the PI information needed for the ROP on a voluntary basis. The current voluntary program meets the NRC's regulatory needs. If circumstances change in the future (for example, if licensees decide to stop submitting the information voluntarily) the NRC can reevaluate its position on whether a rulemaking or other regulatory action is necessary at that time. The rulemaking requested by the petition might enhance public confidence to some degree by making the NRC appear more authoritative in the view of some individuals. However, it would consume resources to develop a rulemaking to codify the current practice, even though the current voluntary program meets the NRC's regulatory needs. Furthermore, if the current practice were codified, any future changes in the definitions or guidance for reporting PI information might be more difficult, use greater resources, and consume more time, as compared with changing a voluntary program.

ADDRESSES: Copies of the petition for rulemaking, the public comments received, and the NRC's letter of denial to the petitioner may be examined, and/or copied for a fee, at the NRC's Public Document Room, located at One White Flint North, 11555 Rockville Pike (first floor), Rockville, Maryland. These documents are also available electronically at the NRC's Public Electronic Reading Room on the Internet at http://www.nrc.gov/reading-rm/adams.html. From this site, the public can gain entry into the NRC's Agencywide Document Access and Management System (ADAMS), which provides text and image files of NRC's public documents. For further information contact the PDR Reference staff at 1 (800) 397-4209, (301) 415-4737 or by email to pdr@nrc.gov.

FOR FURTHER INFORMATION CONTACT: Dennis P. Allison, Office of Nuclear Reactor Regulation, U.S. Nuclear Regulatory Commission, Washington, DC 20555-0001, telephone (301) 415-1178, e-mail address dpa@nrc.gov.

SUPPLEMENTARY INFORMATION:

The Petition

The NRC published a notice of receipt of a petition for rulemaking and request for public comments in the Federal Register on March 5, 2001 (66 FR 13267). The comment period closed on May 21, 2001. The petition requested that the NRC revise its regulations to require that nuclear power plant licensees submit the PI information needed for the ROP. The petition acknowledged that licensees are now submitting this information on a voluntary basis. It also noted that PI information is an important part of the ROP. The petitioner stated that the NRC should require PI information in order to appear more authoritative and enhance public confidence. The petitioner also argued that currently, if one or two plants stop providing PI information, the NRC can compensate by performing more inspection but it is not clear that NRC will have the resources to compensate if many plants stop providing PI information in the future.

Public Comments on the Petition

None of the three public comment letters received supported the petition. The Nuclear Energy Institute (NEI) contended there is no indication that a problem exists necessitating the requested rulemaking. Further, NEI indicated that licensees are already required to report or collect almost all of the information used to develop the PIs. Finally, NEI stated that if PI information were not reported by licensees, no unique and undue burden would be placed on NRC inspection resources. Exelon Corporation submitted a letter that supported NEI's comments. Robert Leyse submitted a letter that did not indicate whether the petition should be granted or denied.

NRC Evaluation of the Petition

The NRC has evaluated the advantages and disadvantages of the rulemaking requested by the petition, as follows.

(1) Maintaining Safety: The requested rulemaking would not affect safety for the following reasons. Currently, licensees are submitting the PI information needed for the ROP on a voluntary basis. The current voluntary program meets the NRC's regulatory needs. If circumstances change in the future (for example, if licensees decide to stop submitting the information voluntarily) the NRC can reevaluate its position on whether a rulemaking or other regulatory action is necessary at that time. The options available would include: imposition of mandatory reporting requirements by rulemaking or order; request for information under oath or affirmation under 10 CFR 50.54(f); direct gathering of PI information by inspection; and/or additional inspection of basic cornerstone areas. If necessary, during the time it would take to implement one of these options, the NRC could gather sufficient information to continue the ROP using modest inspection resources.

(2) Enhancing Public Confidence: The requested rulemaking might enhance public confidence to some degree by making the NRC appear more authoritative in the view of some individuals. There would be no change, however, in the public availability of the PI information because it is already being made publicly available.

(3) Improving Efficiency and Effectiveness: The requested rulemaking would result in a decrease in the efficiency and effectiveness of the NRC's use of resources for the following reasons. The requested rulemaking would consume resources to develop a rulemaking to codify the current practice, even though the current voluntary program meets the NRC's regulatory needs. Furthermore, the guidance and definitions used in reporting PI information are adjusted from time to time based on experience. In the future, changing a rule and/or regulatory guide might be more difficult, use greater resources, and consume more time than changing the voluntary program.

(4) Reducing Unnecessary Regulatory Burden: The requested rulemaking would not affect the regulatory burden on licensees because the PI information needed for the ROP is already being provided on a voluntary basis by all licensees.

Reasons for Denial

The Commission is denying the petition based on this evaluation. Currently, licensees are submitting the PI information needed for the ROP on a voluntary basis. The current voluntary program meets the NRC's regulatory needs. If circumstances change in the future (for example, if licensees decide to stop submitting the information voluntarily) the NRC can reevaluate its position on whether a rulemaking or other regulatory action is necessary at that time. The requested rulemaking might enhance public confidence to some degree by making the NRC appear more authoritative in the view of some individuals. However, it would consume resources to develop a rulemaking to codify the current practice, even though the current voluntary program meets the NRC's regulatory needs. Furthermore, if the current practice were codified, any future changes in the definitions or guidance for reporting PI information might be more difficult, use greater resources, and consume more time, as compared with changing a voluntary program.

For these reasons, the Commission denies the petition.

Dated at Rockville, Maryland, this 13th day of September, 2002.
For the Nuclear Regulatory Commission.
Annette Vietti-Cook,
Secretary of the Commission.

[FR Doc. 02-23812 Filed 9-18-02; 8:45 am]

BILLING CODE 7590-01-P